DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08N146B, Rockville, MD 20857; (301) 443-6593, or visit our website at: http://www.hrsa.gov/vaccinecompensation/index.html.

SUPPLEMENTARY INFORMATION: The Program provides a system of no-fault compensation for certain individuals who have been injured by specified childhood vaccines. Subtitle 2 of Title XXI of the PHS Act, 42 U.S.C. 300aa-10 et seq., provides that those seeking compensation are to file a petition with the U.S. Court of Federal Claims and to serve a copy of the petition on the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the Table) set forth at 42 CFR 100.3. This Table lists for each covered childhood vaccine the conditions that may lead to compensation and, for each condition, the time period for occurrence of the first symptom or manifestation of onset or of significant aggravation after vaccine administration. Compensation may also be awarded for conditions not listed in the Table and for conditions that are manifested outside the time periods specified in the Table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2018, through November 30, 2018. This list provides the name of petitioner, city and state of vaccination (if unknown then city and state of person or attorney filing claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the Table, or

b. “[S]ustained, or had significantly aggravated, any illness, disability, injury, or condition set forth in the Vaccine Injury Table the first symptom or manifestation of the onset or significant aggravation of which did not occur within the time period set forth in the Table but which was caused by a vaccine” referred to in the Table.

In accordance with Section 2112(b)(2), all interested persons may submit written information relevant to the issues described above in the case of the petitions listed below. Any person choosing to do so should file an original and three (3) copies of the information with the Clerk of the U.S. Court of Federal Claims at the address listed above (under the heading For Further Information Contact), with a copy to HRSA addressed to Director, Division of Injury Compensation Programs, Healthcare Systems Bureau, 5600 Fishers Lane, 08N146B, Rockville, MD 20857. The Court's caption (Petitioner's Name v. Secretary of HHS) and the docket number assigned to the petition should be used as the caption for the written submission. Chapter 35 of title 44, United States Code, related to paperwork reduction, does not apply to information required for purposes of carrying out the Program.

Dated: December 20, 2018.
George Sigounas,
Administrator.

List of Petitions Filed

1. Ruth Gear, Grimes, Iowa, Court of Federal Claims No: 18-1684V

2. Carol Constantine, Buffalo, New York, Court of Federal Claims No: 18-1685V

3. Victor Garcia, Boscobel, Wisconsin, Court of Federal Claims No: 18-1688V

4. Anthony Partee, Waupun, Wisconsin, Court of Federal Claims No: 18-1689V

5. Kimberly Duke, Keller, Texas, Court of Federal Claims No: 18-1691V

6. Amy Sullivan on behalf of L.S., Templeton, California, Court of Federal Claims No: 18-1692V

7. Daphne Jones on behalf of R.E., Towson, Maryland, Court of Federal Claims No: 18-1694V

8. Marisol Torres-Sandlin, Forest Hills, New York, Court of Federal Claims No: 18-1696V

9. Jodi Clesen, West Bend, Wisconsin, Court of Federal Claims No: 18-1698V

10. Anne Doetkott, Dallas, Texas, Court of Federal Claims No: 18-1700V

11. Kellie S. Campbell, Butler, Pennsylvania, Court of Federal Claims No: 18-1701V

12. Tara Scherner De La Fuente, North Bend, Washington, Court of Federal Claims No: 18-1702V

13. Gregory Seei, Naperville, Illinois, Court of Federal Claims No: 18-1703V

14. Christopher Lucas, Bakersfield, California, Court of Federal Claims No: 18-1704V

15. Justin Fisher on behalf of A.F., Middleton, Wisconsin, Court of Federal Claims No: 18-1705V

16. Ellen Joy Driesel, Jerome, Idaho, Court of Federal Claims No: 18-1706V

17. Charles J. Street, Ft. Stewart, Georgia, Court of Federal Claims No: 18-1707V

18. Miguel Brito, Miami, Florida, Court of Federal Claims No: 18-1710V

19. Michael Gresham and Allison Gresham on behalf of A.K.G., Atlanta, Georgia, Court of Federal Claims No: 18-1711V

20. Lisa K. Mathis, Greensboro, North Carolina, Court of Federal Claims No: 18-1713V

21. Rita Anderson, Glasgow, Kentucky, Court of Federal Claims No: 18-1716V

22. Justine Amato, Philadelphia, Pennsylvania, Court of Federal Claims No: 18-1718V

23. Emily Brawner, Hutchinson, Kansas, Court of Federal Claims No: 18-1719V

24. Kristen Ammerman, Raleigh, North Carolina, Court of Federal Claims No: 18-1721V

25. Amy Hansen, Golden, Colorado, Court of Federal Claims No: 18-1722V

26. Camila do Espirito Santo, San Jose, California, Court of Federal Claims No: 18-1725V

27. Ramona Miranda Baez, Atlanta, Georgia, Court of Federal Claims No: 18-1727V

28. Kathleen Mahardy, Liverpool, New York, Court of Federal Claims No: 18-1728V

29. Erin Jensen, Holdrege, Nebraska, Court of Federal Claims No: 18-1729V

30. Karen Thomas, Lakewood, Colorado, Court of Federal Claims No: 18-1733V

31. William Goodwin, Atlanta, Georgia, Court of Federal Claims No: 18-1735V

32. Joyce Gruszka, Thornton, Pennsylvania, Court of Federal Claims No: 18-1736V

33. Lindsay Robert, Greenwood Village, Colorado, Court of Federal Claims No: 18-1737V

34. Michelle DePinto, Grand Rapids, Michigan, Court of Federal Claims No: 18-1738V

35. Astou Gueye, New York, New York, Court of Federal Claims No: 18-1739V

36. Jennifer Wood, Los Angeles, California, Court of Federal Claims No: 18-1740V

37. Jacqueline Weaver, Ahoskie, North Carolina, Court of Federal Claims No: 18-1742V

38. John Seidel, San Juan Capistrano, California, Court of Federal Claims No: 18-1743V

39. Elaine Ward Pruett, Rock Spring, Georgia, Court of Federal Claims No: 18-1744V

40. Melanie Henry, Wellesley Hills, Massachusetts, Court of Federal Claims No: 18-1745V

41. Tiffany Lee Drake, St. Petersburg, Florida, Court of Federal Claims No: 18-1747V

42. Rondi Johnson on behalf of James Christian Johnson, Deceased, Santa Ana, California, Court of Federal Claims No: 18-1749V

43. Michael Civatte, Leland, North Carolina, Court of Federal Claims No: 18-1750V

44. Hans Hofer, Boston, Massachusetts, Court of Federal Claims No: 18-1752V

45. Brenda Hutton, Happy Valley, Oregon, Court of Federal Claims No: 18-1753V

46. Carmen Ramirez on behalf of Luis Arroyo, San Diego, California, Court of Federal Claims No: 18-1754V

47. Jennifer R. Bussier, Maple Grove, Minnesota, Court of Federal Claims No: 18-1756V

48. Brandon Richardson, Ruston, Louisiana, Court of Federal Claims No: 18-1757V

49. Elizabeth Lampman, Moscow, Idaho, Court of Federal Claims No: 18-1759V

50. George Phillip Rivera, San Juan, Puerto Rico, Court of Federal Claims No: 18-1761V

51. Suzanne B. Kenyon, East Rochester, New York, Court of Federal Claims No: 18-1762V

52. Teneisha C. Davis, Raleigh, North Carolina, Court of Federal Claims No: 18-1763V

53. Monica Berry, Bridgeport, West Virginia, Court of Federal Claims No: 18-1765V

54. Paula F. Peterson, North Bend, Washington, Court of Federal Claims No: 18-1766V

55. Reginald L. Adams, Danville, Virginia, Court of Federal Claims No: 18-1767V

56. Regina Sarcone, West Chester, Ohio, Court of Federal Claims No: 18-1771V

57. Hatim M. Salah, Belleville, Illinois, Court of Federal Claims No: 18-1772V

58. Martha Jane Ritchie, Irvine, Kentucky, Court of Federal Claims No: 18-1773V

59. Wilber Walker, Farmington, Missouri, Court of Federal Claims No: 18-1775V

60. Shawna Haskins, Rio Rancho, New Mexico, Court of Federal Claims No: 18-1776V

61. Terri Ortegon, Litchfield Park, Arizona, Court of Federal Claims No: 18-1777V

62. Christine McGee, Tucson, Arizona, Court of Federal Claims No: 18-1778V

63. Lisa L. Arredondo, San Antonio, Texas, Court of Federal Claims No: 18-1782V

64. Edward Francis Upton, Reno, Nevada, Court of Federal Claims No: 18-1783V

65. Geetha Menon, Baltimore, Maryland, Court of Federal Claims No: 18-1785V

66. Lisa V. Adams, Washington, District of Columbia, Court of Federal Claims No: 18-1787V

67. Bethany Koorsen, Ann Arbor, Michigan, Court of Federal Claims No: 18-1788V

68. Kathey Phelps on behalf of James T. Phelps, Deceased, Columbia, Tennessee, Court of Federal Claims No: 18-1789V

69. Anthony Arbona, Washington, District of Columbia, Court of Federal Claims No: 18-1790V

70. Steven Lewis, Ann Arbor, Michigan, Court of Federal Claims No: 18-1792V

71. Saad Arshad, Washington, District of Columbia, Court of Federal Claims No: 18-1793V

72. Anita Kaplan, Washington, District of Columbia, Court of Federal Claims No: 18-1794V

73. Ashley Corn, Washington, District of Columbia, Court of Federal Claims No: 18-1795V

74. Armand Dabbon, Washington, District of Columbia, Court of Federal Claims No: 18-1796V

75. Wendy Siefert, Washington, District of Columbia, Court of Federal Claims No: 18-1797V

76. Michelle Brassington, Washington, District of Columbia, Court of Federal Claims No: 18-1799V

77. Mitchell Zuckerman, Lambertville, New Jersey, Court of Federal Claims No: 18-1800V

78. Geneva Wilson, Washington, District of Columbia, Court of Federal Claims No: 18-1802V

79. Barbara Ann Bustillos, Irving, Texas, Court of Federal Claims No: 18-1807V

80. Donald Orr, San Leandro, California, Court of Federal Claims No: 18-1808V

81. Susan Little, Boston, Massachusetts, Court of Federal Claims No: 18-1809V

82. Daisy M. Honaker, Chester, Virginia, Court of Federal Claims No: 18-1810V

83. Darrell W. Morgan, Concord, North Carolina, Court of Federal Claims No: 18-1812V

84. Chad Lonsford, Dallas, Texas, Court of Federal Claims No: 18-1814V

85. Suzanne DeGeorge, Charlotte, North Carolina, Court of Federal Claims No: 18-1815V

86. Susan Anderson, Naples, Florida, Court of Federal Claims No: 18-1816V

87. Debra Falk, New Boston, Ohio, Court of Federal Claims No: 18-1817V

88. Arthur Lytle, Jr., Mt. Pleasant, Michigan, Court of Federal Claims No: 18-1818V

89. Janis F. Holsman, Overland Park, Kansas, Court of Federal Claims No: 18-1819V

90. Robert Uhl, Ormond Beach, Florida, Court of Federal Claims No: 18-1823V

91. Sandra Sary, Sausalito, California, Court of Federal Claims No: 18-1825V

92. Harry L. McCarthy, Richmond, Virginia, Court of Federal Claims No: 18-1826V

93. Carol Wilkinson, Portland, Maine, Court of Federal Claims No: 18-1829V

94. Jadyn Roylance, West Jordan, Utah, Court of Federal Claims No: 18-1831V

95. Barry Lanford, Spartanburg, South Carolina, Court of Federal Claims No: 18-1832V

96. Lisa Hejna, Upper Marlboro, Maryland, Court of Federal Claims No: 18-1833V

97. Eugene Montgomery, Washington, District of Columbia, Court of Federal Claims No: 18-1834V

98. Lourdes Osorio, Bronx, New York, Court of Federal Claims No: 18-1835V

99. Cristina Insumran, Staten Island, New York, Court of Federal Claims No: 18-1836V

100. Mark Mueller, Austin, Texas, Court of Federal Claims No: 18-1837V

101. Gwendolyn Love, Savannah, Georgia, Court of Federal Claims No: 18-1840V

102. Lori Winn, Beverly Hills, California, Court of Federal Claims No: 18-1843V

103. James Rivers, Salisbury, North Carolina, Court of Federal Claims No: 18-1844V

104. Randy Marts, Beverly Hills, California, Court of Federal Claims No: 18-1845V.

105. Dolores De Alatorre Perez and Antonino Alatorre Gutierrez on behalf of D. A., Beverly Hills, California. Court of Federal Claims No: 18-1846V

106. Hormozan Rashidi, Los Angeles, California, Court of Federal Claims No: 18-1855V

[FR Doc. 2018-28280 Filed 12-27-18; 8:45 am]

BILLING CODE 4165-15-P